DEPARTMENT OF LABOR

Employment and Training Administration

Notice of Determinations Regarding Eligibility To Apply for Worker Adjustment Assistance and NAFTA Transitional Adjustment Assistance

In accordance with section 223 of the Trade Act of 1974, as amended, the Department of Labor herein presents summaries of determinations regarding eligibility to apply for trade adjustment assistance for workers (TA-W) issued during the period of June 2002.

In order for an affirmative determination to be made and a certification of eligibility to apply for worker adjustment assistance to be issued, each of the group eligibility requirements of Section 222 of the Act must be met.

(1) That a significant number or proportion of the workers in the workers' firm, or an appropriate subdivision thereof, have become totally or partially separated,

(2) That sales or production, or both, of the firm or sub-division have decreased absolutely, and

(3) That increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-41,167; Tri-Way Manufacturing, Inc., El Paso, TX

TA-W-41,268; Truman Logging, Inc., Rexford, MT

TA-W-41,186; Swanson Erie Corp., Assembly Systems, Erie, PA

TA-W-40,150; Tyco Electronics, Global Application Tooling Div., A Subsidiary of Tyco Electronics Ltd, Mt. Sidney, VA

TA-W-41,316; Quality Components, Klamath Falls, OR

TA-W-41,259; Fibermark, Inc., Rochester, MI

In the following cases, the investigation revealed that the criteria for eligibility have not been met for the reasons specified.

The workers firm does not produce an article as required for certification under section 222 of the Trade Act of 1974.

TA-W-41,272; Amdocs, Inc., Hillsboro, OR

TA-W-40,846; Praxair, Inc., Niagara Falls, NY

The investigation revealed that criteria (2) has not been met. Sales or production did not decline during the relevant period as required for certification.

TA-W-41,467; I.C. Isaac and Co., Inc., New York, NY

Increased imports did not contribute importantly to worker separations at the firm.

TA-W-41,569; ZF-Meritor, LLC, Meritor Clutch Co., Maxton, NC

TA-W-41,178; Pabst Brewing Co., Lehigh Valley Plant, Fogelsville, PA

TA-W-41,302; Motorola, Inc., Arlington Heights, IL

TA-W-41,032; Bard Manufacturing Co., Bryan, OH: “All workers engaged in employment related to the production of finished full units are denied eligibility to apply for adjustment assistance”

Affirmative Determinations for Worker Adjustment Assistance

The following certifications have been issued; the date following the company name and location of each determination references the impact date for all workers of such determination.

TA-W-41,032; Bard Manufacturing Co., Bryan, OH: “All workers engaged in employment related to the production of air conditioning coils who became separated on or after January 10, 2001.

TA-W-41,108; Cedar Hill Manufacturing, Inc., Ansonville, NC: February 25, 2001.

TA-W-41,116; Standard Fusee Corp., d/b/a Orion Safety Products, South Beloit, IL: February 19, 2001.

TA-W-41,122; Cer-Tek, Inc., El Paso, TX: March 25, 2001.

TA-W-41,244; Turbon, Jetfill Div., Houston, TX: June 1, 2000.

TA-W-41,279; Levolor Kirsch Window Fashions, Newell Rubbermaid Div., Shamokin, PA: March 12, 2001.

TA-W-41,007; Emerson Appliance Motors, Exford, MS: January 8, 2001.

TA-W-41,009; Washington Frontier Juice, Prosser, WA: January 31, 2001.

TA-W-41,293; Pittsburgh Tool Steel, Inc., Monaca, PA: October 8, 2000.

TA-W-40,341; Meadowcraft, Inc., Somerton, AZ: November 1, 2000.

TA-W-40,526 and A; HMG Intermark Worldwide Manufacturing, Inc., Plant R-1, Reading, PA and Plant R-5, Reading, PA: October 23, 2000.

TA-W-40,840; Bradley Scott Clothes, Fall River, MA: October 26, 2000.

TA-W-41,233; Associated Garments LLP, Miami, FL: February 19, 2001.

TA-W-41,285; United States Enrichment Corp. (USEC), Portsmouth Gaseous Diffusion Plant, Piketon, OH: June 16, 2002.

TA-W-41,276; GBC Office Products Group, Ashland, MS: March 6, 2001.

TA-W-41,179; Pemco, Inc., Sheboygan, WI: February 14, 2001.

Also, pursuant to Title V of the North American Free Trade Agreement Implementation Act (Pub. L. 103-182) concerning transitional adjustment assistance hereinafter called (NAFTA-TAA) and in accordance with Section 250(a), Subchapter D, Chapter 2, Title II, of the Trade Act as amended, the Department of Labor presents summaries of determinations regarding eligibility to apply for NAFTA-TAA issued during the month of June, 2002.

In order for an affirmative determination to be made and a certification of eligibility to apply for NAFTA-TAA the following group eligibility requirements of Section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increases imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-06205; ZF-Meritor, LLC, Meritor Clutch Co., Maxton, NC

NAFTA-TAA-05955; Swanson Erie Corp., Assembly Systems, Erie, PA

NAFTA-TAA-05981; Truman Logging, Inc., Rexford, MT

NAFTA-TAA-05853; Tri-Way Manufacturing, Inc., El Paso, TX

NAFTA-TAA-05835; Pabst Brewing Co., Lehigh Valley Plant, Fogelsville, PA

NAFTA-TAA-05949; Schaeff, Inc., A Subsidiary of Terex, Sioux City, IA

NAFTA-TAA-06196; Bemis Manufacturing Co., Crandon Div., Crandon, WI

NAFTA-TAA-05974; Quality Components, Inc., Klamath Falls, OR

The investigation revealed that the criteria for eligibility have not been met for the reasons specified.

The investigation revealed that workers of the subject firm did not produce an article within the meaning of Section 250(a) of the Trade Act, as amended.

NAFTA-TAA-05783; Maska U.S., Inc., A Subsidiary of The Hockey Co., Williston, VT

NAFTA-TAA-05764; J. Dashew, Inc., Baltimore, MD

Affirmative Determinations NAFTA-TAA

NAFTA-TAA-06187; Honeywell International Garett Engine Boosting (Formerly Doing Business as Allied Signal), Garrett Engine Boosting Systems, Torrance, CA: April 14, 2002.

NAFTA-TAA-06113; Crossroad Knitting, Inc., Claudville, VA: April 15, 2001.

NAFTA-TAA-06107; Modine Manufacturing Co., Emporia Facility, Emporia, KS: January 16, 2001.

NAFTA-TAA-06102 & A; Harris Welco, Plastics Departmentm Kings Mountain, NC and Personnel Services Unlimited, Kings Mountain, NC (Employed in the Plastics Department, Harris Welco, Kings Mountain, NC): April 22, 2001.

NAFTA-TAA-06063; Celestica, Inc., Westminster, CO: March 29, 2001.

NAFTA-TAA-05978; Fourply, Inc., Plywood Div., Grans Pass, OR: March 8, 2001.

NAFTA-TAA-5964; Levolor Kirsch Window Fashions, Newell Rubbermaid Div., Shamokin, PA: March 12, 2001.

NAFTA-TAA-05914; Cedar Hill Manufacturing, Inc., Ansonville, NC: February 15, 2001.

I hereby certify that the aforementioned determinations were issued during the month of June, 2002. Copies of these determinations are available for inspection in Room C-5311, U.S. Department of Labor, 200 Constitution Avenue, NW., Washington, DC 20210 during normal business hours or will be mailed to persons who write to the above address.

Dated: July 3, 2002.
Edward A. Tomchick,
Director, Division of Trade Adjustment Assistance.

[FR Doc. 02-17138 Filed 7-8-02; 8:45 am]

BILLING CODE 4510-30-P